DEPARTMENT OF HOMELAND SECURITY

National Protection and Programs Directorate

Constellation Automated Critical Asset Management System Functional Survey

AGENCY: National Protection and Programs Directorate, Department of Homeland Security.

ACTION: 60-Day notice and request for comments; new information collection request 1670-NEW.

SUMMARY: The Department of Homeland Security, National Protection and Programs Directorate, has submitted the following Information Collection Request (ICR) to the Office of Management and Budget (OMB) for review and clearance in accordance with the Paperwork Reduction Act of 1995 (Pub. L. 104-13, 44 U.S.C. Chapter 35).

DATES: Comments are encouraged and will be accepted until November 13, 2009. This process is conducted in accordance with 5 CFR 1320.1.

ADDRESSES: Written comments and questions about this Information Collection Request should be forwarded to Department of Homeland Security, National Protection and Programs Directorate, Infrastructure Protection, Attn.: Veronica Heller, Team Lead, Planning and Policy Integration, Ballston One, 4601 N. Fairfax Drive 5th Floor, Arlington, Virginia 22203.

SUPPLEMENTARY INFORMATION: The C/ACAMS program offers State and local first responders, emergency managers, and other homeland security officials access to the Constellation/Automated Critical Asset Management System (C/ACAMS) tools for using CIKR asset data, prevention and protection information, and incident response and recovery plans to make their communities safer. Efficient and effective use of the C/ACAMS tools helps all State and local first responders and emergency managers nationwide reach their goal of making their communities safer. To ensure that interested stakeholders achieve this mission, C/ACAMS requests supporting information from users seeking to use its tool.

The C/ACAMS Program Management Office (PMO) evaluates the Functional Survey to determine levels of customers' satisfaction with the user experience with the C/ACAMS tool. The survey supports data-based decision-making because it evaluates quantitative and qualitative data to identify improvements and identify significant issues based on experienced customer assessments of key tool functions. Obtaining current fact-based actionable data about tool features allows the program to appropriate funds cost-effectively based on user need, saving costs while improving the tool.

The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Department of Homeland Security, National Protection and Programs Directorate.

Title: Constellation Automated Critical Asset Management System Functional Survey.

Form: Not Applicable.

OMB Number: 1670-NEW.

Affected Public: Federal, State, Local, Tribal.

Number of Respondents: 650.

Estimated Time Per Respondent: 15 minutes.

Total Burden Hours: 163 annual burden hours.

Total Burden Cost (capital/startup): $1,800.00.

Total Burden Cost (operating/maintaining): $1,250.00.

Dated: August 28, 2009.
Thomas Chase Garwood, III,
Chief Information Officer, National Protection and Programs Directorate, Department of Homeland Security.

[FR Doc. E9-22047 Filed 9-11-09; 8:45 am]

BILLING CODE 9110-9P-P